DEPARTMENT OF COMMERCE

National Oceanic and Atmospheric Administration

[RTID 0648-XD552]

Marine Mammals; File No. 27514

AGENCY: National Marine Fisheries Service (NMFS), National Oceanic and Atmospheric Administration (NOAA), Commerce.

ACTION: Notice; receipt of application.

SUMMARY: Notice is hereby given that Heather E. Liwanag, Ph.D., California Polytechnic State University, 1 Grand Avenue, San Luis Obispo, CA 93407-0401, has applied in due form for a permit to conduct research on northern elephant seals (Mirounga angustirostris) in California.

DATES: Written comments must be received on or before December 22, 2023.

ADDRESSES: The application and related documents are available for review by selecting “Records Open for Public Comment” from the “Features” box on the Applications and Permits for Protected Species (APPS) home page, https://apps.nmfs.noaa.gov, and then selecting File No. 27514 from the list of available applications. These documents are also available upon written request via email to NMFS.Pr1Comments@noaa.gov.

Written comments on this application should be submitted via email to NMFS.Pr1Comments@noaa.gov. Please include File No. 27514 in the subject line of the email comment.

Those individuals requesting a public hearing should submit a written request via email to NMFS.Pr1Comments@noaa.gov. The request should set forth the specific reasons why a hearing on this application would be appropriate.

FOR FURTHER INFORMATION CONTACT: Jennifer Skidmore or Shasta McClenahan, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), and the Fur Seal Act of 1966, as amended (16 U.S.C. 1151 et seq.).

The applicant requests a 5 year permit to study northern elephant seals in California including Piedras Blancas, Gorda, Vandenberg Air Force Base, and the Channel Islands. Research would be conducted year-round on all age classes and both sexes, with increased frequency and effort during the breeding season (December-April). Research will include behavioral observations, acoustics recordings and playbacks, marking, unmanned aircraft systems, capture, measurements, instrumentation, ultrasound, and sampling (blood, scat, urine, swabs, fur, vibrissae) for health monitoring and research. Two unintentional mortality takes are requested per year not to exceed five over the duration of the permit. In addition, salvage, import, export, and receipt of pinniped parts (any species) is requested for scientific research. The following species may also be unintentionally harassed during research: California sea lions (Zalophus californianus), harbor seals (Phoca vitulina), and northern fur seals (Callorhinus ursinus). See the take table for complete numbers of animals requested by species, life stage, and procedure.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: November 16, 2023.
Julia M. Harrison,
Chief, Permits and Conservation Division, Office of Protected Resources, National Marine Fisheries Service.

[FR Doc. 2023-25783 Filed 11-21-23; 8:45 am]

BILLING CODE 3510-22-P